DEPARTMENT OF HEALTH AND HUMAN SERVICES

Substance Abuse and Mental Health Services Administration

Notice of Meeting; Substance Abuse and Mental Health Services Administration's Center for Substance Abuse Prevention

Pursuant to Public Law 92-463, notice is hereby given that the Substance Abuse and Mental Health Services Administration's (SAMHSA) Center for Substance Abuse Prevention (CSAP) Drug Testing Advisory Board (DTAB) will convene via web conference on December 7, 2021, from 10:00 a.m. ET to 4:30 p.m. ET.

The board will meet in open-session on December 7, 2021, from 10:00 a.m. ET to 11:55 a.m. ET, to discuss the Mandatory Guidelines for Federal Workplace Drug Testing Programs with updates from the Department of Transportation, the Nuclear Regulatory Commission, and the Department of Defense. Other discussion topics include a presentation on tetrahydrocannabinol isomerism and an update on the federal electronic custody and control form (eCCF). The board will meet in closed-session on December 7, 2021, from 1:00 p.m. to 4:30 p.m. ET, to review and discuss revisions to the Urine, Oral Fluid and Hair Mandatory Guidelines for Federal Workplace Drug Testing Programs, hair specimen proficiency testing, and hydroxy cocaine and cocaine ratios that have not been made public by the Department of Health and Human Services. Therefore, the meeting on December 7, 2021, from 1:00 p.m. ET to 4:30 p.m. ET, will be closed to the public, as determined by the Assistant Secretary for Mental Health and Substance Use, SAMHSA, in accordance with 5 U.S.C. 552b(9)(B) and 5 U.S.C. App. 2, Section 10(d).

Meeting registration information can be completed at http://snacregister.samhsa.gov/MeetingList.aspx. Web conference and call information will be sent after completing registration. Meeting information and a roster of DTAB members may be obtained by accessing the SAMHSA Advisory Committees website, https://www.samhsa.gov/about-us/advisory-councils/meetings or by contacting the Acting Designated Federal Officer, Anastasia Donovan.

Committee Name: Substance Abuse and Mental Health Services Administration, Center for Substance Abuse Prevention, Drug Testing Advisory Board.

Dates/Time/Type: December 7, 2021, from 10:00 a.m. to 11:55 a.m. ET: OPEN, December 7, 2021, from 1:00 p.m. to 4:30 p.m. ET: CLOSED.

Place: Substance Abuse and Mental Health Services Administration, 5600 Fishers Lane, Rockville, MD 20857.

Contact: Anastasia Donovan, Policy Analyst, Center for Substance Abuse Prevention, 5600 Fishers Lane, Room 16N06B, Rockville, Maryland 20857, Telephone: (240) 276-1116, Email: anastasia.donovan@samhsa.hhs.gov.

Dated: November 8, 2021.
Carlos Castillo,
Committee Management Officer.

[FR Doc. 2021-24807 Filed 11-12-21; 8:45 am]

BILLING CODE 4162-20-P